DEPARTMENT OF THE INTERIOR

Bureau of Land Management

[F-14879-A, F-14879-A2; LLAK962000-L14100000-HY0000-P]

Alaska Native Claims Selection

AGENCY: Bureau of Land Management, Interior.

ACTION: Notice of decision approving lands for conveyance.

SUMMARY: As required by 43 CFR 2650.7(d), notice is hereby given that the Bureau of Land Management (BLM) will issue an appealable decision to Kotlik Yupik Corporation. The decision approves for conveyance the surface estate in certain lands pursuant to the Alaska Native Claims Settlement Act (ANCSA) (43 U.S.C. 1601, et seq.). The lands approved for conveyance lie partially within the Clarence Rhode National Wildlife Range in existence on the date ANCSA was enacted, December 18, 1971. As provided by ANCSA, the subsurface estate in the lands lying outside the Range will be conveyed to Calista Corporation when the surface estate is conveyed to Kotlik Yupik Corporation. The subsurface estate in the lands lying within the Range is not available for conveyance to Calista Corporation and will be reserved to the United States at the time of conveyance. The lands are in the vicinity of Kotlik, Alaska and are described as:

Lands within the Clarence Rhode National Wildlife Range (Public Land Order No. 4589), now known as the Yukon Delta National Wildlife Refuge

Surface estate to be conveyed to Kotlik Yupik Corporation; subsurface estate to be reserved to the United States

Kateel River Meridian, Alaska

T. 26 S., R. 27 W.,

Sec. 24.

Containing 0.37 acres.

Lands outside the Clarence Rhode National Wildlife Range (Public Land Order No. 4589), now known as the Yukon Delta National Wildlife Refuge National Wildlife Refuge

Surface estate to be conveyed to Kotlik Yupik Corporation; subsurface estate to be conveyed to Calista Regional Corporation

Kateel River Meridian, Alaska

T. 28 S., R. 24 W.,

Sec. 30.

Containing 25 acres.

T. 27 S., R. 26 W.,

Sec. 36.

Containing 5 acres.

Aggregating 30 acres.

Notice of the decision will also be published four times in The Delta Discovery.

DATES: Any party claiming a property interest in the lands affected by the decision may appeal the decision within the following time limits:

1. Unknown parties, parties unable to be located after reasonable efforts have been expended to locate, parties who fail or refuse to sign their return receipt, and parties who receive a copy of the decision by regular mail which is not certified, return receipt requested, shall have until May 23, 2012 to file an appeal.

2. Parties receiving service of the decision by certified mail shall have 30 days from the date of receipt to file an appeal.

3. Notices of appeal transmitted by electronic means, such as facsimile or email, will not be accepted as timely filed.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The BLM by phone at 907-271-5960 or by email at ak.blm.conveyance@blm.gov. Persons who use a Telecommunications Device for the Deaf (TDD) may call the Federal Information Relay Service (FIRS) at 1-800-877-8339 to contact the BLM during normal business hours. In addition, the FIRS is available 24 hours a day, 7 days a week, to leave a message or question with the BLM. The BLM will reply during normal business hours.

Ralph L. Eluska, Sr.,
Land Transfer Resolution Specialist, Land Transfer Adjudication II Branch.

[FR Doc. 2012-9687 Filed 4-20-12; 8:45 am]

BILLING CODE 4310-JA-P